DEPARTMENT OF JUSTICE

[OMB Number 1140-0098]

Agency Information Collection Activities; Proposed eCollection eComments Requested; Revision of a Previously Approved Collection; ATF F 5070.1, Prevent All Cigarette Trafficking (PACT) Act Registration Form and ATF F 5070.1A, Prevent All Cigarette Trafficking (PACT) Act Registration Continuation Sheet—ATF Form 5070.1/5070.1A

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until September 5, 2023.

FOR FURTHER INFORMATION CONTACT: If you have additional comments especially on the estimated public burden or associated response time, suggestions, or need a copy of the proposed information collection instrument with instructions or additional information, contact: Moliki Alexander, Operational Intelligence Division, either by mail at 90 K Street NE, Suite 250, Washington, DC 20002, by email at Moliki.alexander@atf.gov or telephone at 202-648-7720.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This form is required for Electronic Nicotine Delivery System (ENDS), for delivery sellers to register with ATF, States and localities that these products are shipped into and report sales into these jurisdictions and requires distributors who engage in delivery sales to comply with State and local tax, and regulatory laws involving the distribution of ENDS to minors. Effective March 27, 2021, electronic nicotine delivery systems (ENDS) became subject to regulation under the Prevent All Cigarette Trafficking (PACT) Act (15 U.S.C. 375 et seq.).

Overview of This Information Collection

1. Type of Information Collection: Revision of a previously approved collection.

2. The Title of the Form/Collection: Prevent All Cigarette Trafficking (PACT) Act Registration Form.

3. The agency form number, if any, and the applicable component of the Department sponsoring the collection:Form number: ATF Form 5070.1/5070.1A.

Component: Bureau of Alcohol, Tobacco, Firearms and Explosives, U.S. Department of Justice.

4. Affected public who will be asked or required to respond, as well as the obligation to respond: Affected Public: Private Sector—business or other for-profit. The obligation to respond is mandatory per 15 U.S.C. 375 et seq.

5. An estimate of the total number of respondents and the amount of time estimated for an average respondent to respond: An estimated 800 respondents will utilize the form annually, and it will take each respondent approximately 1 hour to complete their responses.

6. An estimate of the total annual burden (in hours) associated with the collection: The estimated annual public burden associated with this collection is 800 total hours, which is equal to 800 (total respondents) * 1 (# of response per respondent) * 1 (60 minutes taken to prepare each response).

7. An estimate of the total annual cost burden associated with the collection, if applicable: ATF estimates the cost to businesses impacted will be $27,368 collectively.

Total Burden Hours
Activity | Number of respondents | Frequency | Total annual responses | Time per response (hour) | Total annual burden (hours)
ATF Form 5070.1/5070.1A | 800 | 1/annually | 800 | 1 | 800

If additional information is required contact: John Carlson, Department Clearance Officer, United States Department of Justice, Justice Management Division, Policy and Planning Staff, Two Constitution Square, 145 N Street NE, 4W-218, Washington, DC.

Dated: June 30, 2023.
John Carlson,
Department Clearance Officer for PRA, U.S. Department of Justice.

[FR Doc. 2023-14275 Filed 7-5-23; 8:45 am]

BILLING CODE 4410-FY-P